DEPARTMENT OF AGRICULTURE

Animal and Plant Health Inspection Service

7 CFR Part 319

Foreign Quarantine Notices

CFR Correction

In Title 7 of the Code of Federal Regulations, Parts 300 to 399, revised as of January 1, 2015, on page 372, in § 319.56-57, paragraph (c)(2) is correctly reinstated to read as follows:

§ 319.56-57 Sand pears from China.

* * * * *

(c) * * *

(2) Packinghouses must have a tracking system in place to readily identify all sand pears that enter the packinghouse destined for export to the United States back to their place of production.

* * * * *

[FR Doc. 2015-18071 Filed 7-22-15; 8:45 am]

BILLING CODE 1505-01-D